DEPARTMENT OF ENERGY

Federal Energy Regulatory Commission

Combined Notice of Filings #1

Take notice that the Commission received the following electric rate filings:

Docket Numbers: ER11-2895-003.

Applicants: Duke Energy Carolinas, LLC.

Description: Amendment to Compliance Filing to be effective 6/1/2011.

Filed Date: 11/28/11.

Accession Number: 20111128-5219.

Comments Due: 5 p.m. ET 12/19/11.

Docket Numbers: ER12-474-000.

Applicants: PJM Interconnection, L.L.C.

Description: Original Svc Agreement No. 3146; Queue No. V3-052, V4-006, V4-007, V4-030 & V4-031 to be effective 10/28/2011.

Filed Date: 11/28/11.

Accession Number: 20111128-5184.

Comments Due: 5 p.m. ET 12/19/11.

Docket Numbers: ER12-475-000.

Applicants: Duke Energy Ohio, Inc., Duke Energy Indiana, Inc., Duke Energy Kentucky, Inc.

Description: Amendment to Ancillary Services Tariff to be effective 1/1/2012.

Filed Date: 11/28/11.

Accession Number: 20111128-5202.

Comments Due: 5 p.m. ET 12/19/11.

Docket Numbers: ER12-476-000.

Applicants: Duke Energy Kentucky, Inc.

Description: Cancel Reactive Tariff as to Duke Kentucky to be effective 1/1/2012.

Filed Date: 11/28/11.

Accession Number: 20111128-5203.

Comments Due: 5 p.m. ET 12/19/11.

Docket Numbers: ER12-477-000.

Applicants: Duke Energy Kentucky, Inc.

Description: Reactive Power Rate Schedule Filing to be effective 1/1/2012.

Filed Date: 11/28/11.

Accession Number: 20111128-5204.

Comments Due: 5 p.m. ET 12/19/11.

Docket Numbers: ER12-478-000.

Applicants: Duke Energy Ohio, Inc.

Description: Cancel Reactive Tariff as to Duke Ohio to be effective 1/1/2012.

Filed Date: 11/28/11.

Accession Number: 20111128-5208.

Comments Due: 5 p.m. ET 12/19/11.

Docket Numbers: ER12-479-000.

Applicants: Duke Energy Ohio, Inc.

Description: Reactive Power Rate Schedule Filing to be effective 1/1/2012.

Filed Date: 11/28/11.

Accession Number: 20111128-5209.

Comments Due: 5 p.m. ET 12/19/11.

Docket Numbers: ER12-480-000.

Applicants: Midwest Independent Transmission System Operator, Inc.

Description: 11-28-11 Entergy Cost Allocation Filing to be effective 6/1/2013.

Filed Date: 11/28/11.

Accession Number: 20111128-5224.

Comments Due: 5 p.m. ET 12/19/11.

Take notice that the Commission received the following land acquisition reports:

Docket Numbers: LA11-3-000.

Applicants: Iberdrola Renewables, Inc., Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Dry Lake Wind Power, LLC, Dry Lake Wind Power II LLC, Elk River Windfarm, LLC, Elm Creek Wind, LLC, Elm Creek Wind II LLC, Farmers City Wind, LLC, Flat Rock Windpower LLC, Flat Rock Windpower II LLC, Flying Cloud Power Partners, LLC, Hardscrabble Wind Power LLC, Hay Canyon Wind LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge Wind Farm II, LLC, MinnDakota Wind LLC, Moraine Wind LLC, Moraine Wind II LLC, Mountain View Power Partners III, LLC, New Harvest Wind Project LLC, Northern Iowa Windpower II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, Twin Buttes Wind LLC.

Description: Land Acquisition Report of Atlantic Renewables Projects II LLC, et. al.

Filed Date: 11/28/11.

Accession Number: 20111128-5240.

Comments Due: 5 p.m. ET 12/19/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2011.
Nathaniel J. Davis, Sr.,
Deputy Secretary.

[FR Doc. 2011-31387 Filed 12-6-11; 8:45 a.m.]

BILLING CODE 6717-01-P